DEPARTMENT OF EDUCATION

[Docket No.: ED-2024-SCC-0142]

Agency Information Collection Activities; Submission to the Office of Management and Budget for Review and Approval; Comment Request; EDFacts Data Collection School Years 2025-26, 2026-27, and 2027-28 (With 2024-25 Continuation)

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before June 20, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Matt Soldner, 202-453-7441.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: EDFacts Data Collection School Years 2025-26, 2026-27, and 2027-28 (with 2024-25 continuation).

OMB Control Number: 1850-0925.

Type of Review: A revision of a currently approved ICR.

Respondents/Affected Public: State, Local, and Tribal Governments.

Total Estimated Number of Annual Responses: 61.

Total Estimated Number of Annual Burden Hours: 126,880.

Abstract: EDFacts is a U.S. Department of Education (ED) initiative, supported by the National Center for Education Statistics (NCES) and ED's Office of the Chief Data Officer, to collect, analyze, report on, and promote the use of high-quality, pre-kindergarten through grade 12 (pre-K-12) performance data. By centralizing data provided by state education agencies about state level data, local education agencies, and schools, NCES and other components of ED use the EDFacts data to report on students, schools, staff, services, and education outcomes at the state, district, and school levels. The centralized approach provides ED users with the ability to efficiently analyze and report on submitted data and has reduced the reporting burden for state and local data producers through the use of streamlined data collection, analysis, and reporting tools. EDFacts collects information on behalf of ED grant and program offices for approximately 170 data groups for all 50 states, Washington, DC, Puerto Rico, and seven outlying areas and freely associated states (American Samoa, Federated States of Micronesia, Guam, Marshall Islands, Commonwealth of the Northern Mariana Islands, Republic of Palau, and the U.S. Virgin Islands), the Department of Defense Education Activity (DoDEA), and the Bureau of Indian Education (BIE).

This request is to collect EDFacts data for the 2025-26, 2026-27, and 2027-28 school years. Due to overlap in the timing of data collection activities between consecutive years of the EDFacts collection, we are carrying over in this submission the approved SY 2024-25 data collection, which is scheduled to end in February 2026.

Ross Santy,
Chief Data Officer, Office of Planning, Evaluation and Policy Development.

[FR Doc. 2025-09085 Filed 5-20-25; 8:45 am]

BILLING CODE 4000-01-P